DEPARTMENT OF ENERGY

Federal Energy Regulatory Commission

[Docket No. IN23-14-000]

Ketchup Caddy, LLC, Philip Mango; Updated Notice of Designation of Commission Staff as Non-Decisional

With respect to an order issued by the Commission on February 21, 2024, in the above-captioned docket, with the exceptions noted below, the staff of the Office of Enforcement are designated as non-decisional in deliberations by the Commission in this docket.¹ Accordingly, pursuant to 18 CFR 385.2202 (2023), they will not serve as advisors to the Commission or take part in the Commission's review of any offer of settlement. Likewise, as non-decisional staff, pursuant to 18 CFR 385.2201 (2023), they are prohibited from communicating with advisory staff concerning any deliberations in this docket.

¹ Ketchup Caddy, LLC and Philip Mango, 186 FERC ¶ 61,132 (2024).

Exceptions to this designation as non-decisional are:

Danielle Mechling

Neill Tseng

Michael Raibman

Rebecca Wahlenmayer

Shawn Au

Benjamin Jarrett

Serrita Hill

Steven Bundick

Dated: February 27, 2024.
Debbie-Anne A. Reese,
Acting Secretary.

[FR Doc. 2024-04528 Filed 3-4-24; 8:45 am]

BILLING CODE 6717-01-P